DEPARTMENT OF COMMERCE

Economic Development Administration

[Docket No. 99121533-3181-08]

National Technical Assistance, Training, Research, and Evaluation: University Research Parks, Technology-Led Economic Development Strategies, and Information Dissemination—Request for Proposals

AGENCY: Economic Development Administration (EDA), Department of Commerce (DOC).

ACTION: Request for grant proposals (RFP) upon availability of funds.

SUMMARY: EDA publishes this notice to reopen the application submission period for ten days to allow applicants to submit proposals addressing Section VI.B.I. entitled “Information Dissemination to Practitioners Serving Distressed Areas.” EDA reopens the proposal period because the proposals that addressed “Information Dissemination to Practitioners Serving Distressed Areas,” did not adequately meet the established criteria for EDA to select a proposal for funding consideration.

DATES: Prospective applicants are advised that proposals for funding will be accepted through August 8, 2003, at any of the addresses provided in the May 23, 2003, RFP. Proposals received after 4 p.m. e.d.t., on August 8, 2003, will not be considered for funding.

FOR FURTHER INFORMATION CONTACT: John J. McNamee, 202.482.4085; e-mail: jmcnamee@eda.doc.gov.

SUPPLEMENTARY INFORMATION: On May 23, 2003, EDA published a Notice in the Federal Register at 68 FR 28672, requesting proposals for several RFPs. Section VI.B.I. of that Notice requested proposals for “Information Dissemination to Practitioners Serving Distressed Areas.” Proposals received in response to Section VI.B.I. did not adequately meet the established criteria for EDA to select a proposal for funding consideration. Consequently, EDA hereby reopens for ten days the proposal submission period for the information dissemination proposals only. New proposals, as well as revisions of proposals submitted earlier, will be accepted. All other requirements of the May 23, 2003, notice remain in effect.

Dated: July 23, 2003.
David A. Sampson,
Assistant Secretary for Economic Development.

[FR Doc. 03-19207 Filed 7-28-03; 8:45 am]

BILLING CODE 3510-24-U